DEPARTMENT OF COMMERCE

National Oceanic and Atmospheric Administration

[RTID 0648-XB933]

Mid-Atlantic Fishery Management Council (MAFMC); Public Meeting

AGENCY: National Marine Fisheries Service (NMFS), National Oceanic and Atmospheric Administration (NOAA), Commerce.

ACTION: Notice; public meeting.

SUMMARY: The Research Steering Committee of the Mid-Atlantic Fishery Management Council (Council) will hold a meeting. See SUPPLEMENTARY INFORMATION for agenda details.

DATES: The meeting will be held on Wednesday, April 27, 2022, from 8:45 a.m. to 3:45 p.m.

ADDRESSES: The meeting will be conducted in a hybrid format, with options for both in-person and webinar participation. The meeting will be held at Sheraton BWI, 1100 Old Elkridge Landing Road, Linthicum, MD 21090. Webinar details, including a telephone-only connection option, will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is for the Research Steering Committee to review all the input received from the four previous Research Set-Aside (RSA) exploration workshops and make recommendations regarding the potential redevelopment of the Council's RSA program. The Committee's recommendations will then be considered by the Council during their June 2022 meeting. A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: April 4, 2022.
Tracey L. Thompson,
Acting Deputy Director, Office of Sustainable Fisheries, National Marine Fisheries Service.

[FR Doc. 2022-07383 Filed 4-6-22; 8:45 am]

BILLING CODE 3510-22-P